DEPARTMENT OF HOMELAND SECURITY

Office of Grants and Training, Citizen Corps; Agency Information Collection Activities: Submission for OMB Review; Comment Request

AGENCY: DHS, Office of Grants and Training, Citizen Corps.

ACTION: 30-day notice and request for comment.

SUMMARY: Under the provisions of Section 3507(a)(1)(D) of the Paperwork Reduction Act of 1995, the Department of Homeland Security's Office of Grants and Training has submitted to the Office of Management and Budget (OMB) a request for review and approval of the information collection listed below. This proposed online information collection was previously published in the Federal Register on October 24, 2006, pages 62272-62273 and allowed 60 days for public comment. No comments were received. The purpose of this notice is to allow an additional 30 days for public comment. The Department of Homeland Security may not conduct or sponsor, and the respondent is not required to respond to, an information collection that has been extended, revised, or implemented on or after March 12, 2007, unless it displays a currently valid OMB control number.

Title: Profiles in Hometown Security.

OMB Number: 1670-NEW.

Abstract: This online information collection will enable Citizen Corps to operate effectively and efficiently. Profiles in Hometown Security will be a new online collection of 1-page summaries to communicate Citizen Corps members' involvement in safety and security incidents. By gathering this information and posting it to the Citizens Corps Web site, all Councils and the general public will be able to draw from others' experience with personal and community prevention, preparedness, response and mitigation, based on hands-on experiences. This information will also help the National Citizen Corps Council gauge its progress in the field, as well as opportunities for growth and enhancement.

Affected Public: Citizen Corps Council members, program managers, Program Partners and Affiliates, Non-profit organizations, first responders, state/local/tribal/territorial governments.

Number of Respondents: 1,430 responses per year.

Estimated Time per Respondent: 2 hours.

Estimated Total Annual Burden Hours: 2,860 hours.

Frequency of Response: On occasion.

Comments: Interested persons are invited to submit written comments on the proposed information collection to The Office of Information and Regulatory Affairs, Office of Management and Budget, Attention: Nathan Lesser, Desk Officer, Department of Homeland Security, Preparedness Directorate/ and sent via electronic mail to oira@omb.eop.gov or faxed to (202) 395-6974. Comments must be submitted on or before March 12, 2007.

FOR FURTHER INFORMATION CONTACT: Requests for additional information or copies of the information collection should be made to Citizens Corps, Attention: Jeanie Moore, 810 7th Street, NW., Washington, DC 20531 or by calling (202) 786-9858 (this is not a toll free number).

Charlie Church,
Information and Technology Division, Preparedness Directorate, Department of Homeland Security.

[FR Doc. 07-581 Filed 2-7-07; 8:45 am]

BILLING CODE 4410-10-M